DEPARTMENT OF THE INTERIOR

Fish and Wildlife Service

Receipt of an Application for an Incidental Take Permit for Silvicultural Activities, Gates County, North Carolina

AGENCY: Fish and Wildlife Service, Interior.

ACTION: Notice.

SUMMARY: Mrs. Clarine Cooper and Mrs. Canzata Turner (Applicants) have applied for an incidental take permit (ITP) from the Fish and Wildlife Service (Service) pursuant to section 10(a)(1)(B) of the Endangered Species Act of 1973 (16 U.S.C. 1531 et seq.), as amended. The proposed permit would allow take of one group of the red-cockaded woodpecker (Picoides borealis), a federally-listed, endangered species, incidental to silvicultural activities on the applicants' property in Gates County, North Carolina (Project).

The Applicants' Habitat Conservation Plan (HCP) describes the mitigation measures proposed to address the effects of the Project to the protected species. These measures are outlined in the SUPPLEMENTARY INFORMATION section below. The Service has determined that the Applicant's proposal, including the proposed mitigation measures, will individually and cumulatively have a minor or negligible effect on these species covered in the HCP. Therefore, the ITP is a “low-effect” project and would qualify as a categorical exclusion under the National Environmental Policy Act (NEPA), as provided by the Department of Interior Manual (516 DM2, Appendix 1 and 516 DM 6, Appendix 1).

The Service announces the availability of the HCP for the incidental take application. Copies of the HCP may be obtained by making a request to the Regional Office (see ADDRESSES). Requests must be in writing to be processed. This notice is provided pursuant to Section 10 of the Endangered Species Act and NEPA regulations (40 CFR 1506.6).

The Service specifically requests information, views, and opinions from the public via this Notice on the federal action. Further, the Service specifically solicits information regarding the adequacy of the HCP as measured against the Service's ITP issuance criteria found in 50 CFR parts 13 and 17.

If you wish to comment, you may submit comments by any one of several methods. Please reference permit number TE048566-0 in such comments. You may mail comments to the Service's Regional Office (see ADDRESSES). You may also comment via the Internet to david_dell@fws.gov. Please submit comments over the internet as an ASCII file avoiding the use of special characters and any form of encryption. Please also include your name and return address in your internet message. If you do not receive a confirmation from the Service that we have received your internet message, contact us directly at either telephone number listed below (see FOR FURTHER INFORMATION CONTACT).

Due to Court order, the Department of Interior has temporarily lost access to the internet and may not regain it by the time this notice is published. Commentors are encouraged to submit comments by mail or express courier, or to call (see FOR FURTHER INFORMATION CONTACT) to confirm whether our internet capability has been restored.

Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the permit application, Determination of Low Effect and HCP should be sent to the Service's Regional Office (see ADDRESSES) and should be received on or before February 22, 2002.

ADDRESSES: Persons wishing to review the application, HCP, and supporting documentation may obtain a copy by writing the Service's Southeast Regional Office, Atlanta, Georgia. Documents will also be available for public inspection by appointment during normal business hours at the Regional Office, 1875 Century Boulevard, Suite 200, Atlanta, Georgia 30345 (Attn: Endangered Species Permits), or Raleigh Field Office, Post Office Box 33726, Raleigh, North Carolina 27636-3726 (Attn: John Hammond). Written data or comments concerning the application, HCP, or supporting documents should be submitted to the Regional Office. Requests for the documentation must be in writing to be processed. Please reference permit number TE048566-0 in such comments, or in requests of the documents discussed herein.

FOR FURTHER INFORMATION CONTACT: Mr. David Dell, Regional Permit Coordinator, (see ADDRESSES above), telephone: 404/679-7313; or Mr. John Hammond, Fish and Wildlife Biologist, Raleigh Field Office, (see ADDRESSES above), telephone 919/856-4520, Ext 28.

SUPPLEMENTARY INFORMATION: The red-cockaded woodpecker is a territorial, non-migratory bird species once common in the southern Coastal Plain from east Texas to Florida and north to Maryland, Missouri, and Kentucky. Red-cockaded woodpeckers roost and nest in cavities excavated in large, living pine trees 60 years old or older. The red-cockaded woodpecker is a cooperative breeder that lives in family groups of one to nine birds, with each bird nesting in a separate cavity; the aggregate of cavity trees used by a group is called a cluster. Red-cockaded woodpeckers prefer mature longleaf pine forests, but also inhabit loblolly, pond, slash, shortleaf, and Virginia pine stands. Without periodic fire to control hardwoods, red-cockaded woodpeckers abandon clusters as other cavity competitors and predators typical of hardwood habitats move in. The decline of the red-cockaded woodpecker is due primarily to loss of the old-growth, fire-maintained southern pine ecosystem as a result of logging, fire suppression, and conversion to non-forest land uses.

Recovery activities for the red-cockaded woodpecker are focused on Federal lands. Private lands are also important in the Service's recovery strategy to supplement habitat where the Federal land base is insufficient to support recovery, to establish and maintain connectivity with populations on public lands, and to provide a donor source of juvenile red-cockaded woodpeckers for translocation into designated recovery populations. Red-cockaded woodpeckers have generally declined on private lands because of a lack of active habitat management, and habitat fragmentation. The Service considers that red-cockaded woodpeckers geographically isolated on private lands, as on the Project site, will eventually cease to exist unless private landowners are encouraged to manage their lands for the species.

The Applicants intend to harvest 86 acres of merchantable timber and reforest the Project site in loblolly pine. This would result in the take of one group of red-cockaded woodpeckers (in recent surveys, numbering 2 adults and 2 juveniles) through harm due to alteration of their habitat. The affected group of red-cockaded woodpeckers are not part of a larger population. The nearest known groups outside the applicants' property are about five miles away and do not regularly interact with the group in the project area. This demographic isolation, in a region of fragmented, discontinuous habitat availability, greatly limits any contribution to species' recovery by the red-cockaded woodpeckers affected by the project. The biological goal of the applicants' HCP is to create a new, or augment an existing, group of red-cockaded woodpeckers, via translocation of juveniles from a donor population, into an area of better habitat and thereby help to consolidate a more stable red-cockaded woodpecker population within the species' historic range. This would be accomplished by the applicants' contribution of $13,000 into an existing National Fish and Wildlife Foundation fund. This fund is dedicated to purposes consistent with the mitigation goal stated above. Expenditures from this fund would be made as potential donor and recipient populations of red-cockaded woodpeckers are identified in the future.

The Applicants and the Service believe the biological goal of the HCP to augment or create a new group of red-cockaded woodpeckers at an area of better habitat which would help to consolidate a more stable red-cockaded woodpecker population at an opportune time in the future would offset project impacts while allowing the applicants profitable use of their property.

Under section 9 of the Act and its implementing regulations, “taking” of endangered and threatened wildlife is prohibited. However, the Service, under limited circumstances, may issue permits to take such wildlife if the taking is incidental to and not the purpose of otherwise lawful activities. The Service's regulations for approving such permit requests are contained in section 10(a)(2)(B) of the Act.

As stated above, we have determined that the HCP is a low-effect plan that is categorically excluded from further NEPA analysis, which does not require the preparation of an EA or EIS. Low-effect HCPs are those involving: (1) Minor or negligible effects on federally listed or candidate species and their habitats, and (2) minor or negligible effects on other environmental values or resources. The Applicant's HCP qualifies for the following reasons:

1. Approval of the HCP would result in minor or negligible effects on the red-cockaded woodpecker and its habitat. We do not anticipate significant direct or cumulative effects on this species as a result of this project.

2. Approval of the HCP would not have adverse effects on known geographic, historic, or cultural sites, or involve unique or unknown environmental risks.

3. Approval of the HCP would not result in any significant adverse effects on public health or safety.

4. The project does not require compliance with Executive Order 11988 (Floodplain Management), Executive Order 11990 (Protection of Wetlands), or the Fish and Wildlife Coordination Act, nor does it threaten to violate a federal, state, local, or tribal law or requirement imposed for protection of the environment.

5. Approval of the HCP would not establish a precedent for future action or represent a decision in principle about future actions with potentially significant environmental effects.

We will evaluate the HCP and public comments to determine whether the application meets the requirements of section 10(a) of the Act. We will also evaluate whether the issuance of the ITP complies with section 7 of the Act by conducting an intra-Service Section 7 consultation to ensure the ITP will not jeopardize the continued existence of this species. We will use the results of this consultation, in combination with the above findings, to determine if the requirements of the ITP are met and whether or not to issue the ITP.

Dated: January 16, 2002.
John R. Lemon,
Acting Regional Director.

[FR Doc. 02-1599 Filed 1-22-02; 8:45 am]

BILLING CODE 4310-55-P